DEPARTMENT OF HOMELAND SECURITY

Coast Guard

33 CFR Part 117

[Docket No. USCG-2011-0893]

Drawbridge Operation Regulation; Corson Inlet, Strathmere, NJ

AGENCY: Coast Guard, DHS.

ACTION: Notice of temporary deviation from regulations.

SUMMARY: The Commander Fifth Coast Guard District has issued a temporary deviation from the regulations governing the operation of the Corson Inlet Bridge (County Route 619), at mile 0.9, across Corson Inlet, in Strathmere, NJ. The deviation is necessary to facilitate the replacement of the steel railing. This deviation restricts operation of the draw span by not allowing openings during the project while the railings on the moveable span portion of the bridge are replaced.

DATES: This deviation is effective from 5 a.m. on October 17, 2011 until 5 p.m. on November 17, 2011.

ADDRESSES: Documents mentioned in this preamble as being available in the docket are part of docket USCG-2011-0893 and are available online by going to http://www.regulations.gov, inserting USCG-2011-0893 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Terrance Knowles, Environmental Protection Specialist, Fifth Coast Guard District; telephone 757-398-6587, e-mail Terrance.A.Knowles@uscg.mil. If you have questions on viewing the docket, call Renee V. Wright, Program Manager, Docket Operations, telephone 202-366-9826.

SUPPLEMENTARY INFORMATION: The Cape May County Bridge Commission, who owns and operates this bascule drawbridge, has requested a temporary deviation from the current operating regulations set out in 33 CFR 117.714 to facilitate the replacement of the bridge railings.

The Corson Inlet Bridge (CR-619) at mile 0.9, across Corson Inlet in Strathmere, NJ has a vertical clearance in the closed position to vessels of 15 feet above mean high water. Though the span will be closed for the project, the 15 feet of vertical navigation clearance will remain available throughout the project. Furthermore, the 50 feet of horizontal clearance will be reduced to 25 feet temporarily only if/when barges are used beneath the span.

Under this temporary deviation, the Corson Inlet Bridge will be closed to vessels requiring an opening from 5 a.m. on October 17, 2011 until 5 p.m. on November 17, 2011. The drawbridge will not be able to open in the event of an emergency. Vessels that can pass under the bridge without a bridge opening may do so at all times. Vessels have an alternate ocean route to the south through Townsends Inlet.

There were no bridge openings provided in 2010. The Coast Guard has coordinated the restrictions with the Cape May County Bridge Commission/contractor and will inform the other users of the waterways through our Local and Broadcast Notices to Mariners of the closure periods for the bridge so that vessels can arrange their transits to minimize any impact caused by the temporary deviation.

In accordance with 33 CFR 117.35(e), the drawbridge must return to its regular operating schedule immediately at the end of the designated time period. This deviation from the operating regulations is authorized under 33 CFR 117.35.

Dated: September 30, 2011.
Waverly W. Gregory, Jr.,
Bridge Program Manager, By direction of the Commander, Fifth Coast Guard District.

[FR Doc. 2011-26524 Filed 10-13-11; 8:45 am]

BILLING CODE 4910-15-P